NUCLEAR REGULATORY COMMISSION

[Docket Nos. 50-373 and 50-374; NRC-2014-0268]

Exelon Generation Company, LLC; LaSalle County Station, Units 1 and 2; License Renewal

AGENCY: Nuclear Regulatory Commission.

ACTION: Supplemental environmental impact statement; issuance.

SUMMARY: The U.S. Nuclear Regulatory Commission (NRC) is issuing a final plant-specific supplement, Supplement 57, to NUREG-1437, “Generic Environmental Impact Statement for License Renewal of Nuclear Plants” (GEIS), regarding the renewal of Exelon Generation Company, LLC, operating licenses NPF-11 and NPF-18 for an additional 20 years of operation for LaSalle County Station, Units 1 and 2 (LSCS).

DATES: Final Supplement 57 to the GEIS is available as of September 1, 2016.

ADDRESSES: Please refer to Docket ID NRC-2014-0268 when contacting the NRC about the availability of information regarding this document. You may obtain publicly-available information related to this document using any of the following methods:

• Federal Rulemaking Web site: Go to http://www.regulations.gov and search for Docket ID NRC-2014-0268. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Final Supplement 57 to the GEIS is available in ADAMS under Accession No. ML16238A029.

• NRC's PDR: You may examine and purchase copies of public documents at the NRC's PDR, Room O1-F21, One White Flint North, 11555 Rockville Pike, Rockville, Maryland 20852.

FOR FURTHER INFORMATION CONTACT: William Ford, Office of Nuclear Reactor Regulation, U.S. Nuclear Regulatory Commission, Washington, DC 20555-0001; telephone: 1-800-368-5642, extension 1263; email: William.Ford@nrc.gov.

SUPPLEMENTARY INFORMATION:

I. Background

In accordance with section 51.118 of title 10 of the Code of Federal Regulations, the NRC is making available for public inspection, final Supplement 57 to the GEIS regarding the renewal of Exelon Generation Company, LLC, operating licenses NPF-11 and NPF-18 for an additional 20 years of operation for LSCS. Draft Supplement 57 to the GEIS was noticed by the NRC in the Federal Register on February 11, 2016 (81 FR 7378), and was noticed by the Environmental Protection Agency on February 19, 2016 (81 FR 8490). The public comment period on draft Supplement 57 to the GEIS ended on April 4, 2016. The NRC received 11 public comment submissions from State and Federal government organizations, public interest organizations, private citizens, and the licensee. The comments received on the draft Supplement 57 were addressed in the final Supplement 57 to the GEIS.

II. Discussion

As discussed in Chapter 5 of the final Supplement 57 to the GEIS, the NRC determined that the adverse environmental impacts of license renewal for LSCS are not so great that preserving the option of license renewal for energy-planning decision makers would be unreasonable. This recommendation is based on: (1) The analysis and findings in the GEIS; (2) information provided in the environmental report and other documents submitted by Exelon Generation Company, LLC; (3) consultation with Federal, State, local, and Tribal government agencies; (4) the NRC staff's independent environmental review; and (5) consideration of public comments received during the scoping process and on the draft Supplement 57 to the GEIS.

Dated at Rockville, Maryland, this 26th day of August, 2016.
For the Nuclear Regulatory Commission.
James G. Danna,
Chief, Environmental Review and Projects Branch, Division of License Renewal, Office of Nuclear Reactor Regulation.

[FR Doc. 2016-21055 Filed 8-31-16; 8:45 am]

BILLING CODE 7590-01-P